DEPARTMENT OF JUSTICE

Antitrust Division

Notice Pursuant to the National Cooperative Research and Production Act of 1993—American Society Of Mechanical Engineers

Notice is hereby given that, on November 14, 2016, pursuant to Section 6(a) of the National Cooperative Research and Production Act of 1993, 15 U.S.C. 4301 et seq. (“the Act”), the American Society of Mechanical Engineers (“ASME”) has filed written notifications simultaneously with the Attorney General and the Federal Trade Commission disclosing additions or changes to its standards development activities. The notifications were filed for the purpose of extending the Act's provisions limiting the recovery of antitrust plaintiffs to actual damages under specified circumstances. Specifically, since May 27, 2016, ASME has published two new standards, revised four consensus committee charters, added one consensus committee charter, disbanded one consensus committee, initiated three new standards activities, and has withdrawn two standards activities within the general nature and scope of ASME's standards development activities, as specified in the original notification. More detail regarding these changes can be found at http://www.asme.org.

On September 15, 2004, ASME filed its original notification pursuant to Section 6(a) of the Act. The Department of Justice published a notice in the Federal Register pursuant to Section 6(b) of the Act on October 13, 2004 (69 FR 60895).

The last notification with the Attorney General was filed on May 31, 2016. A notice was filed in the Federal Register on July 6, 2016 (81 FR 44048).

Patricia A. Brink,
Director of Civil Enforcement, Antitrust Division.

[FR Doc. 2017-00355 Filed 1-10-17; 8:45 am]

BILLING CODE P